DEPARTMENT OF THE INTERIOR

Bureau of Land Management

[WAOR106084175, WAOR 056583]

Notice of Withdrawal Extension Application and Opportunity for Public Meeting, Chief Joseph Dam Additional Units Project, Washington

AGENCY: Bureau of Land Management, Interior.

ACTION: Notice of withdrawal extension.

SUMMARY: The United States Department of the Army, Corps of Engineers (USACE), has filed an application with the Bureau of Land Management (BLM) requesting that the Secretary of the Interior extend Public Land Order (PLO) No. 7608 for an additional 20-year term. Subject to valid existing rights, PLO No. 7608 withdrew 400.27 acres of public lands from settlement, sale, location, or entry under the general land laws, including the United States mining laws, and transferred jurisdiction over those lands to the Department of the Army for the Chief Joseph Dam Additional Units Project for a period of 20 years. This notice advises the public of a 90-day opportunity to comment on the withdrawal extension application and to request a public meeting.

DATES: Comments and requests for a public meeting must be received by May 15, 2024.

ADDRESSES: All comments and meeting requests should be sent to the BLM Oregon/Washington State Director, P.O. Box 2965, Portland, Oregon 97208. The application and case file are available for public examination by interested persons by appointment at the BLM Public Room, 1220 SW 3rd Ave., 11th Floor, Portland, Oregon 97208 during regular business hours 8:00 a.m. to 4:30 p.m., Monday through Friday except holidays. Please call 503-808-6001 to make an appointment.

FOR FURTHER INFORMATION CONTACT: Luke Poff, Realty Specialist, BLM Oregon/Washington State Office, (503) 808-6249, by email at lpoff@blm.gov, or at the address noted earlier, or, Cindy Luciano, Civil Works Program Manager, USACE Seattle District, (206) 316-4376, or by email at Cindy.L.Luciano@usace.army.mil. Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: The USACE filed an application requesting extension of the withdrawal created by PLO No. 7608 (69 FR 48253), which will expire August 8, 2024, unless extended. The following lands are affected by this notice:

Willamette Meridian, Washington

T. 29 N., R. 26 E.,

Sec. 9, SW¼SW¼;

Sec. 30, lot 2.

T. 30 N., R. 26 E.,

Sec. 25, NW¼NE¼;

Sec. 35, SW¼SE¼.

T. 30 N., R. 27 E.,

Sec. 28, SE¼SE¼;

Sec. 29, NE¼NW¼;

Sec. 34, SW¼NW¼ and NE¼SW¼.

T. 30 N., R. 28 E.,

Sec. 9, SE¼SE¼;

Sec. 14, NE¼SW¼.

The areas described aggregate 400.27 acres.

The use of a right-of-way, interagency agreement, or cooperative agreement would not adequately constrain non-discretionary uses, which could impede USACE's management of the Dam and reservoir. There are no suitable alternative sites since the requested withdrawal extension is associated with the Chief Joseph Dam Project.

Comments will be available for public review. Before including your address, phone number, email address, or other personal identifying information in your comment, you should be aware that your entire comment—including your personally identifying information—may be made publicly available at any time. While you may ask the BLM in your comment to withhold your personal identifying information from public review, we cannot guarantee that we will be able to do so.

An opportunity for a public meeting may be afforded in connection with the application for withdrawal extension. All interested persons who desire a public meeting for the purpose of being heard on the application for this withdrawal extension must submit a written request to the State Director, BLM Oregon/Washington State Office at the address in the ADDRESSES section, within 90 days from the date of publication of this notice. If the authorized officer determines that a public meeting will be held, a notice of the date, time, and place will be published in the Federal Register and local newspapers and posted on the BLM website at: www.blm.gov at least 30 days before the scheduled date of the meeting.

This withdrawal extension application will be processed in accordance with the regulations set forth in 43 CFR 2310.4.

(Authority: 43 U.S.C. 1714)

Dustin Webster-Wharton,
Branch Chief for Lands, Minerals, and Energy Resources.

[FR Doc. 2024-03123 Filed 2-14-24; 8:45 am]

BILLING CODE 3720-58-P